DEPARTMENT OF DEFENSE

Department of the Navy

[USD-2008-0015]

Privacy Act of 1974; System of Records

AGENCY: Department of the Navy, DoD.

ACTION: Notice to Amend a System of Records

SUMMARY: The Department of the Navy is amending a system of records notice in its existing inventory of record systems subject to the Privacy Act of 1974, (5 U.S.C. 552a), as amended.

DATES: This proposed action will be effective without further notice on May 1, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: March 26, 2008.
L.M. Bynum,
Alternate OSD Federal Register Liaison Officer, Department of Defense.

N01070-2

System name:

Naval Attaché Files (December 1, 1998, 63 FR 66133).

Changes:

System ID:

Change “N01070-2” to read “NM01070-2”.

System name:

Delete entry and replace with “Attaché Nomination/Assignment Files.”

System location:

Delete second para and replace with “Marine Corps Files: Intelligence Department, Attn: Code IOP, Headquarters, U.S. Marine Corps, 2 Navy Annex, Washington, DC 20380-1775.”

* * * * *

Categories of records in the system:

Delete entry and replace with “File contains copies of questionnaires (i.e., Naval Attaché Background Inventory, Naval Attaché Opinion Inventory; Naval Attaché Relationship Questionnaire; and Substance Abuse Subtle Screening Inventory (SASSI)), data collected during personal interviews that can include name, Social Security Number (SSN), addresses, telephone numbers, dependent information, medical screenings, and other information from the individual's military personnel file.”

Authority for maintenance of the system:

Delete entry and replace with “National Security Act of 1974, as amended; 10 U.S.C. 5013, Secretary of the Navy; 10 U.S.C. 5041, Headquarters, Marine Corps; and E.O. 9397 (SSN).”

Purpose(s):

Delete entry and replace with “To provide data to Navy, Marine Corps and Defense Intelligence Agency (DIA) officials to determine suitability of Navy and Marine Corps officer personnel for assignment to the Defense Attaché System.”

* * * * *

System manager(s) and address:

Delete para 2 and replace with “Marine Corps Files: Director, Intelligence Department, Attn: Code IOP, Headquarters, U.S. Marine Corps, 2 Navy Annex, Washington, DC 20380-1775.”

Notification procedure:

Delete entry and replace with “Individuals seeking to determine whether information about themselves is contained in this system should address written inquiries to Naval Attaché Affairs Office, Office of Naval Intelligence Collections Directorate (ONI-3), 4251 Suitland Road, Washington, DC 20395-5720 (for Navy files) or to the Director, Intelligence Department, Attn: Code IOP, Headquarters, U.S. Marine Corps, 2 Navy Annex, Washington, DC 20380-1775 (for Marine Corps files).

Request should contain individual's name and Social Security Number (SSN) and must be signed.”

Record access procedures:

Delete entry and replace with “Individuals seeking access to information about themselves contained in this system should address written inquiries to the Naval Attaché Affairs Office, Office of Naval Intelligence Collections Directorate (ONI-3), 4251 Suitland Road, Washington, DC 20395-5720 (for Navy files) or to the Director, Intelligence Department, Attn: Code IOP, Headquarters, U.S. Marine Corps, 2 Navy Annex, Washington, DC 20380-1775 (for Marine Corps files).

Request should contain individual's name and Social Security Number (SSN) and must be signed.”

* * * * *

NM01070-2

System name:

Attaché Nomination/Assignment Files.

System location:

Navy Files: Naval Attaché Affairs Office, Office of Naval Intelligence (ONI-3), 4251 Suitland Road, Washington, DC 20395-5720.

Marine Corps Files: Intelligence Department, Attn: Code IOP, Headquarters, U.S. Marine Corps, 2 Navy Annex, Washington, DC 20380-1775.

Categories of individuals covered by the system:

U.S. Navy and Marine Corps Officers nominated and/or assigned to duty in the Defense Attaché System (DAS)

Categories of records in the system:

File contains copies of questionnaires (i.e., Naval Attaché Background Inventory, Naval Attaché Opinion Inventory; Naval Attaché Relationship Questionnaire; and Substance Abuse Subtle Screening Inventory (SASSI)), data collected during personal interviews that can include individual's name, Social Security Number (SSN), addresses, telephone numbers, dependent information, medical screenings, and other information from the individual's military personnel file.

Authority for maintenance of the system:

National Security Act of 1974, as amended; 10 U.S.C. 5013, Secretary of the Navy; 10 U.S.C. 5041, Headquarters, Marine Corps; and E.O. 9397 (SSN).

Purpose(s):

To provide data to Navy, Marine Corps and Defense Intelligence Agency (DIA) officials to determine suitability of Navy and Marine Corps officer personnel for assignment to the Defense Attaché System.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of State to determine suitability of personnel for security clearances and assignment to the Defense Attaché System.

The ‘Blanket Routine Uses’ that appear at the beginning of the Navy's compilation of systems of records notices apply to this system.

Policies and practices for storing, retrieving, accessing, retaining, and disposing of records in the system:

Storage:

Manual and automated files.

Retrievability:

Retrieved by name and Social Security Number (SSN).

Safeguards:

Access is provided on need-to-know basis only. Manual records are stored in a controlled access area and are accessible only to a very limited number of authorized personnel with proper security clearance. Access to computerized data is controlled by password or other user code.

Retention and disposal:

Records are opened on individuals when first nominated for attaché duty. Records are destroyed when personnel are transferred, separated, or when files are no longer needed, whichever is earlier.

System manager(s) and address:

Navy Files: Naval Attaché Affairs Office, Office of Naval Intelligence (ONI-3), 4251 Suitland Road, Washington, DC 20395-5720.

Marine Corps Files: Director, Intelligence Department, Attn: Code IOP, Headquarters, U.S. Marine Corps, 2 Navy Annex, Washington, DC 20380-1775.

Notification procedure:

Individuals seeking to determine whether information about themselves is contained in this system should address written inquiries to Naval Attaché Affairs Office, Office of Naval Intelligence Collections Directorate (ONI-3), 4251 Suitland Road, Washington, DC 20395-5720 (for Navy files) or to the Director, Intelligence Department, Attn: Code IOP, Headquarters, U.S. Marine Corps, 2 Navy Annex, Washington, DC 20380-1775 (for Marine Corps files).

Request should contain individual's name and Social Security Number (SSN) and must be signed.

Record access procedures:

Individuals seeking access to information about themselves contained in this system should address written inquiries to the Naval Attaché Affairs Office, Office of Naval Intelligence Collections Directorate (ONI-3), 4251 Suitland Road, Washington, DC 20395-5720 (for Navy files) or to the Director, Intelligence Department, Attn: Code IOP, Headquarters, U.S. Marine Corps, 2 Navy Annex, Washington, DC 20380-1775 (for Marine Corps files).

Request should contain individual's name and Social Security Number (SSN) and must be signed.

Contesting record procedures:

The Navy's rules for accessing records, and for contesting contents and appealing initial agency determinations are published in Secretary of the Navy Instruction 5211.5; 32 CFR part 701; or may be obtained from the system manager.

Record source categories:

Individual; family members; Defense Security Service; Naval Criminal Investigative Service; and personnel files.

Exemptions claimed for the system:

None.

[FR Doc. E8-6638 Filed 3-31-08; 8:45 am]

BILLING CODE 5001-06-P